Proclamation 9186 of October 3, 2014

Child Health Day, 2014

By the President of the United States of America

A Proclamation

All children deserve equal opportunities to realize their potential and reach their dreams. Securing this promise for our daughters and sons begins with ensuring their health and well-being. As we pause on Child Health Day to reflect on this profound obligation, let us recommit to fostering a society where there are no limits to what our Nation's young people can achieve.

The Affordable Care Act supports children's health not only by expanding access to quality, affordable health insurance for millions of Americans, but also by guaranteeing that most health plans cover recommended preventive services for children without copays, including immunizations and developmental screenings. Millions of children are already benefiting from this care, and even more will be protected in the years to come. As kids grow, the Affordable Care Act continues to support their health by prohibiting insurance companies from denying coverage to children with pre-existing conditions and allowing young adults to stay on a parent's health insurance plan until age 26. This builds on the successes of Medicaid and the Children's Health Insurance Program, which have significantly reduced the percentage of uninsured children.

When more than one-third of American children and adolescents are overweight or obese, expanding access to nutritious foods and opportunities for physical activity is an urgent health issue. Working with both the public and private sectors, First Lady Michelle Obama's Let's Move! initiative is making it easier for parents and children to make healthy choices that put kids on the path to a bright future during their earliest months and years.

As a Nation, we have an obligation to invest in the health of future generations by protecting our planet and our environment. In the past 30 years, asthma rates have doubled, and as air pollution gets worse, more kids will suffer. Clean air and water are essential to the well-being of our children and grandchildren, and we must work today to secure their tomorrow. My Administration has taken action and will continue to pursue policies that reduce harmful air pollution, improve water quality, and protect communities from toxic chemical exposures.

When young Americans have the opportunity to live healthy and safe lives, they are free to pursue their full measure of happiness. Today, we continue our work to support our children's health and build a Nation where all our daughters and sons can thrive.

The Congress, by a joint resolution approved May 18, 1928, as amended (36 U.S.C. 105), has called for the designation of the first Monday in October as Child Health Day and has requested that the President issue a proclamation in observance of this day.

NOW, THEREFORE, I, BARACK OBAMA, President of the United States of America, do hereby proclaim Monday, October 6, 2014, as Child Health Day. I call upon families, educators, child health professionals, faith-based and community organizations, and all levels of government to help ensure America's children are healthy.

IN WITNESS WHEREOF, I have hereunto set my hand this third day of October, in the year of our Lord two thousand fourteen, and of the Independence of the United States of America the two hundred and thirty-ninth.

[FR Doc. 2014-24215

Filed 10-7-14; 11:15 am]

Billing code 3295-F5